DEPARTMENT OF THE INTERIOR

Fish and Wildlife Service

50 CFR Part 20

RIN 1018-AG08

Migratory Bird Hunting; Supplemental Proposals for Migratory Game Bird Hunting Regulations; Notice of Meetings

AGENCY: Fish and Wildlife Service, Interior.

ACTION: Proposed rule; supplemental.

SUMMARY: The U.S. Fish and Wildlife Service (hereinafter Service or we) proposed in an earlier document to establish annual hunting regulations for certain migratory game birds for the 2000-01 hunting season. This supplement to the proposed rule provides the regulatory schedule; announces the Service Migratory Bird Regulations Committee and Flyway Council meetings; and describes the proposed regulatory alternatives for the 2000-01 duck hunting seasons and other proposed changes from the 1999-2000 hunting regulations.

DATES: The Service Migratory Bird Regulations Committee will meet to consider and develop proposed regulations for early-season migratory bird hunting on June 21 and 22, and for late-season migratory bird hunting on August 2 and 3. All meetings will commence at approximately 8:30 a.m.

You must submit comments on the proposed regulatory alternatives for the 2000-01 duck hunting seasons by July 7, 2000. You must submit comments on the proposed migratory bird hunting-season frameworks for Alaska, Hawaii, Puerto Rico, the Virgin Islands, and other early seasons by July 28, 2000; and for proposed late-season frameworks by September 8, 2000.

ADDRESSES: The Service Migratory Bird Regulations Committee will meet in room 200 of the U.S. Fish and Wildlife Service's Arlington Square Building, 4401 N. Fairfax Drive, Arlington, Virginia.

Send your comments on the proposals to the Chief, Office of Migratory Bird Management, U.S. Fish and Wildlife Service, Department of the Interior, ms 634-ARLSQ, 1849 C Street, NW., Washington, DC 20240. All comments received, including names and addresses, will become part of the public record. You may inspect comments during normal business hours in room 634, Arlington Square Building, 4401 N. Fairfax Drive, Arlington, Virginia.

FOR FURTHER INFORMATION CONTACT: Jonathan Andrew, Chief, or Ron W. Kokel, Office of Migratory Bird Management, U.S. Fish and Wildlife Service, (703) 358-1714.

SUPPLEMENTARY INFORMATION:

Regulations Schedule for 2000

On April 25, 2000, we published in the Federal Register (65 FR 24260) a proposal to amend 50 CFR part 20. The proposal dealt with the establishment of seasons, limits, and other regulations for migratory game birds under § 20.101 through 20.107, 20.109, and 20.110 of subpart K. This document is the second in a series of proposed, supplemental, and final rules for migratory game bird hunting regulations. We will publish proposed early-season frameworks and final regulatory alternatives for the 2000-01 duck hunting seasons in mid-July and late-season frameworks in mid-August. We will publish final regulatory frameworks for early seasons on or about August 18, 2000, and those for late seasons on or about September 25, 2000.

Service Migratory Bird Regulations Committee Meetings

The Service Migratory Bird Regulations Committee will meet June 21-22 to review information on the current status of migratory shore and upland game birds and develop 2000-01 migratory game bird regulations recommendations for these species plus regulations for migratory game birds in Alaska, Puerto Rico, and the Virgin Islands. The Committee will also develop regulations recommendations for special September waterfowl seasons in designated States, special sea duck seasons in the Atlantic Flyway, and extended falconry seasons. In addition, the Committee review and discuss preliminary information on the status of waterfowl.

At the August 2-3 meetings, the Committee will review information on the current status of waterfowl and develop 2000-01 migratory game bird regulations recommendations for regular waterfowl seasons and other species and seasons not previously discussed at the early-season meetings.

In accordance with Departmental policy, these meetings are open to public observation. You may submit written comments to the Director on the matters discussed.

Announcement of Flyway Council Meetings

Service representatives will be present at the joint and individual meetings of the four Flyway Councils, July 27 and 28, at the Peabody Hotel in Memphis, Tennessee. Although agendas are not yet available, these meetings usually commence at 8:00 a.m. on the days indicated.

Review of Public Comments

This supplemental rulemaking contains the proposed regulatory alternatives for the 2000-01 duck hunting seasons. We have included and addressed all comments and recommendations received through May 12, 2000, relating to the development of these alternatives.

This supplemental rulemaking also describes other recommended changes based on the preliminary proposals published in the April 25, 2000, Federal Register. We have included only those recommendations requiring either new proposals or substantial modification of the preliminary proposals. This supplement does not include recommendations or comments that simply support or oppose preliminary proposals and provide no recommended alternatives. We will consider these comments later in the regulations-development process. We will publish responses to all proposals and written comments when we develop final frameworks.

We seek additional information and comments on the recommendations in this supplemental proposed rule. New proposals and modifications to previously described proposals are discussed below. Wherever possible, they are discussed under headings corresponding to the numbered items in the April 25, 2000, proposed rule.

1. Ducks

Categories used to discuss issues related to duck harvest management are: (A) Harvest Strategy Considerations, (B) Regulatory Alternatives, including specification of framework dates, season length, and bag limits, (C) Zones and Split Seasons, and (D) Special Seasons/Species Management. Only those categories for which we received public comment are discussed below.

A. Harvest Strategy Considerations

Council Recommendations: The Atlantic Flyway Council recommended that duck hunting regulations in the Atlantic Flyway for the 2000-01 season be based on the optimal harvest strategy for eastern mallards.

Service Response: In the April 25, 2000, proposed rule (65 FR 24260), we proposed to continue use of Adaptive Harvest Management (AHM) to guide the establishment of duck hunting regulations. This year, we also propose to modify the existing AHM protocol to account for the status of mallards breeding in eastern North America. Modification of the AHM protocol involves: (1) Augmentation of the criteria for regulatory decisions to include population and environmental variables relevant to eastern mallards; (2) development of a combined harvest-management objective for midcontinent and eastern mallards; and (3) modification of the decision rules to allow a regulatory choice in the Atlantic Flyway that may differ from the remainder of the country. Recently, the Service, in cooperation with the Atlantic Flyway Council, completed a technical assessment regarding modification of AHM to account for eastern mallards. The principal finding of this assessment was that the status of midcontinent mallards appears to have little or no influence on the most appropriate choice of regulatory alternative in the Atlantic Flyway. However, the status of eastern mallards can influence the most appropriate regulatory choice in the western three Flyways, particularly when the status of midcontinent and eastern mallards is disparate. We note that this assessment considers only the large-scale status of mallard breeding populations, and not the status of sub-populations that may have affinities for certain wintering areas. We also note that the assessment did not explicitly consider the status of species other than mallards in the development of regulatory strategies. The assessment report is available on the Internet at www.migratorybirds.fws.gov/reports/reports.html. We will consider the implications for mallard harvest and status discussed in this assessment report, as well as potential impacts on species other than mallards, in proposing a regulatory alternative for the Atlantic Flyway for the 2000-2001 hunting season. We will accept public comment on this issue until September 8, 2000. Comments should be sent to the address under the caption ADDRESSES.

B. Regulatory Alternatives

Council Recommendations: The Upper-Region Regulations Committee of the Mississippi Flyway Council recommended that the regulations alternatives from 1999 be used in 2000, except that the framework opening and closing dates in all alternatives should be the Saturday nearest September 23 to the Sunday nearest January 28, with appropriate offsets (e.g., reduction in season length) as determined by the Service.

The Lower-Region Regulations Committee of the Mississippi Flyway Council recommended that the framework opening and closing dates in all regulatory alternatives should be the Saturday nearest September 23 to the Sunday nearest January 28, with no penalties in season length.

The Central Flyway Council recommended the continued use of the 1999 regulatory alternatives for the 2000-2001 season, but with modifications. The Council recommended a framework opening date of the Saturday closest to September 24 in the “liberal” and “moderate” regulatory alternatives with no offsets, and a framework closing date of the Sunday closest to January 25. Additionally, the Council recommended that no additional changes be allowed to the alternatives for a 5-year period.

The Pacific Flyway Council recommended that the set of regulatory alternatives for the 2000-2001 hunting season remain unchanged from those adopted in 1999.

Service Response: We believe that tacit disagreement over the objectives of modifying framework dates continues to undermine the biological and administrative foundations of the regulatory process for setting duck hunting seasons. Therefore, we believe that the continuing debate over framework-date extensions could benefit from further dialogue, in which Flyway Councils explore the sociological issues of fairness and equity underlying the framework-date issue. We acknowledge the difficulties associated with such a dialogue, but broad-based agreement on a regulatory approach to framework dates is unlikely in its absence.

Due to the continuing absence of agreement among States and Flyways about how best to modify framework dates, we are proposing no changes to the set of regulatory alternatives from those considered last year (i.e., the 1999-2000 hunting season) (64 FR 39460). We reiterate that our desire is to maintain current framework-date specifications through the 2002-03 hunting season, or until such time that the Flyway Councils can develop an approach that adequately addresses the concerns of the Service and a majority of States.

In evaluating proposals for modification of framework dates, we will continue to focus on several key issues, including: (1) The potential for biological impacts on the waterfowl resource, particularly on those species currently at depressed levels; (2) the technical difficulties associated with predicting harvest impacts; (3) our desire to maintain framework dates as a viable tool, along with season length and bag limit, for regulating duck harvests; and (4) the acceptability of proposals to a broad range of stakeholders. In addition, we are particularly concerned about any modification to framework dates that would disrupt the functioning of AHM, which is intended to reduce long-standing uncertainties about the impacts of hunting regulations on waterfowl populations. An essential feature of the AHM process is a set of regulatory alternatives (including framework dates, season lengths, and bag limits) that is sufficiently stable over time to permit a reliable investigation of the relationships between regulations and harvest, and between harvest and subsequent duck population size.

Therefore, we propose the four regulatory alternatives described in the accompanying table for consideration during the 2000-2001 duck hunting season. Alternatives are specified for each Flyway and are designated as “VERY RES” for the very restrictive, “RES” for the restrictive, “MOD” for the moderate, and “LIB” for the liberal alternative. We will announce final regulatory alternatives in early July following the early-season regulations meetings in late June. Public comments will be accepted until July 7, 2000, and should be sent to the address under the caption ADDRESSES.

C. Zones and Split Seasons

Council Recommendations: The Central Flyway Council recommended that the guidelines for regular duck season zone/split configurations be modified to allow States to select up to three zones with a two-way split season in each zone.

D. Special Seasons/Species Management

iii. September Teal Seasons

Council Recommendations: The Central Flyway Council recommended that Nebraska be allowed to have an experimental 9-day teal season in the non-production area of the State.

iv. September Teal/Wood Duck Seasons

Council Recommendations: The Lower-Region Regulations Committee of the Mississippi Flyway Council requested that the Service and the Council's Wood Duck Technical Committee move forward during the current year (2000) to allow for implementation of a wood duck Flyway harvest management strategy by the year 2001 as scheduled. The Committee further recommended that September seasons remain an option for delineated wood duck reference areas (population units), provided that specified data-collection requirements are met.

v. Youth Hunt

Council Recommendations: The Lower-Region Regulations Committee of the Mississippi Flyway Council recommended a special 2-day youth waterfowl hunt for the 2000-01 season.

The Central Flyway Council recommended expansion of the special youth waterfowl hunt to 2 days.

The Pacific Flyway Council recommended that the Service allow States the opportunity to select up to 2 consecutive days for a youth waterfowl hunt outside the general season and frameworks in 2000.

3. Mergansers

Council Recommendations: The Upper-Region Regulations Committee of the Mississippi Flyway Council recommended that, for those States that include mergansers in their duck bag limit, the merganser limit be the same as the duck bag limit, except that the hooded merganser limit would remain at one.

4. Canada Geese

A. Special Seasons

Council Recommendations: The Upper-Region Regulations Committee of the Mississippi Flyway Council recommended that the three counties near Saginaw Bay in Michigan (Huron, Saginaw, and Tuscola), which previously have been closed in the special early Canada goose season, be allowed an experimental special early season with a two-bird daily bag limit.

The Lower-Region Regulations Committee of the Mississippi Flyway Council urged the Service to use caution in changing or expanding special goose seasons.

The Central Flyway Council recommended that the framework closing date for operational September Canada goose seasons in the Central Flyway be extended to September 30 with no additional evaluation required.

The Pacific Flyway Council recommended that Wyoming's daily bag and season limits be increased from 2 and 4, to 3 and 6 birds, respectively, and that the bag and possession limits for Washington's September season increase from 3 and 6, to 5 and 10, respectively.

B. Regular Seasons

Council Recommendations: The Upper-Region Regulations Committee of the Mississippi Flyway Council recommended that the 1999 regular goose season opening date be as early as September 16 in Michigan and Wisconsin. The Committee further recommended that the framework opening date for regular goose seasons in the Mississippi Flyway be September 16.

The Central Flyway Council recommended that the framework opening date for regular dark goose seasons in the East and West Tiers be fixed at September 1, rather than the current opening date of the Saturday nearest October 1.

5. White-fronted Geese

Council Recommendations: The Central Flyway Council recommended that the framework closing date for Mid-Continent white-fronted geese be changed to the Sunday closest to February 15. They further recommended that the season length be 95 days, except for the Eastern Goose Zone of Texas, where it would be unchanged (86 days).

8. Swans

Council Recommendations: The Central Flyway Council recommended that States with Eastern Population tundra swan hunting seasons (North Dakota, South Dakota, and Montana) be allowed to issue a second swan permit to interested hunters from permits remaining after the initial drawing.

9. Sandhill Cranes

Council Recommendations: The Central Flyway Council recommended a 95-day season with the option for a two-way split season for the hunting of Mid-Continent sandhill cranes. This change would result in a 37-day season length increase in North Dakota, South Dakota, Nebraska, Kansas, Montana, Wyoming, and Colorado and a 2-day season length increase in Oklahoma, Texas, and New Mexico.

The Council further recommended that the open area for the hunting of Mid-Continent sandhill cranes be extended eastward to the Mississippi Flyway. The Council recommends a season length of 37 days with outside framework dates of September 1 and February 28, and a daily bag/possession limit of 3 and 9, respectively, for this expanded area.

The Pacific Flyway Council recommended a boundary modification in Box Elder County, Utah to exclude that portion of the County known to be used by greater sandhill cranes affiliated with the Lower Colorado River Population.

12. Rails

Council Recommendations: The Pacific Flyway Council recommended that those States divided between the Central and Pacific Flyways be allowed to select rail season frameworks, on a statewide basis, that conform with the Central Management Unit frameworks.

13. Snipe

Council Recommendations: The Pacific Flyway Council recommended that those States divided between the Central and Pacific Flyways be allowed to select snipe season frameworks, on a statewide basis, that conform with the Central Management Unit frameworks.

15. Band-tailed Pigeons

Council Recommendations: The Pacific Flyway Council recommended a change in frameworks for Pacific Coast band-tailed pigeons from 1999 to increase the possession limit from 2 to 4 birds.

16. Mourning Doves

Council Recommendations: The Pacific Flyway Council recommended that those States divided between the Central and Pacific Flyways be allowed to select dove season frameworks, on a statewide basis, that conform with the Central Management Unit frameworks.

18. Alaska

Council Recommendations: The Pacific Flyway Council recommended a reduction in sandhill crane bag limits from three to two in that portion of the State associated with the Pacific Flyway Population of lesser sandhill cranes.

Public Comment Invited

The Department of the Interior's policy is, whenever practicable, to afford the public an opportunity to participate in the rulemaking process. We intend that adopted final rules be as responsive as possible to all concerned interests and, therefore, seek the comments and suggestions of the public, other concerned governmental agencies, non-governmental organizations, and other private interests on these proposals. Accordingly, we invite interested persons to submit written comments, suggestions, or recommendations regarding the proposed regulations to the address indicated under the caption ADDRESSES.

Special circumstances involved in the establishment of these regulations limit the amount of time that we can allow for public comment. Specifically, two considerations compress the time in which the rulemaking process must operate: (1) The need to establish final rules at a point early enough in the summer to allow affected State agencies to appropriately adjust their licensing and regulatory mechanisms; and (2) the unavailability, before mid-June, of specific, reliable data on this year's status of some waterfowl and migratory shore and upland game bird populations. Therefore, we believe that to allow comment periods past the dates specified is contrary to the public interest.

Before promulgation of final migratory game bird hunting regulations, we will take into consideration all comments received. Such comments, and any additional information received, may lead to final regulations that differ from these proposals.

You may inspect comments received on the proposed annual regulations during normal business hours at the Service's office in room 634, 4401 North Fairfax Drive, Arlington, Virginia. For each series of proposed rulemakings, we will establish specific comment periods. We will consider, but possibly may not respond in detail to, each comment. As in the past, we will summarize all comments received during the comment period and respond to them after the closing date.

NEPA Consideration

NEPA considerations are covered by the programmatic document, “Final Supplemental Environmental Impact Statement: Issuance of Annual Regulations Permitting the Sport Hunting of Migratory Birds (FSES 88-14),” filed with the Environmental Protection Agency on June 9, 1988. We published a Notice of Availability in the Federal Register on June 16, 1988 (53 FR 22582). We published our Record of Decision on August 18, 1988 (53 FR 31341). Copies are available from the address indicated under the caption ADDRESSES.

Endangered Species Act Consideration

Prior to issuance of the 2000-01 migratory game bird hunting regulations, we will consider provisions of the Endangered Species Act of 1973, as amended, (16 U.S.C. 1531-1543; hereinafter the Act) to ensure that hunting is not likely to jeopardize the continued existence of any species designated as endangered or threatened or modify or destroy its critical habitat and that the proposed action is consistent with conservation programs for those species. Consultations under Section 7 of this Act may cause us to change proposals in this and future supplemental proposed rulemaking documents.

Executive Order (E.O.) 12866

While this individual supplemental rule was not reviewed by the Office of Management and Budget (OMB), the migratory bird hunting regulations are economically significant and are annually reviewed by OMB under E.O. 12866.

E.O. 12866 requires each agency to write regulations that are easy to understand. We invite comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more (but shorter) sections? (5) Is the description of the rule in the SUPPLEMENTARY INFORMATION section of the preamble helpful in understanding the rule? What else could the Service do to make the rule easier to understand?

Regulatory Flexibility Act

These regulations have a significant economic impact on substantial numbers of small entities under the Regulatory Flexibility Act (5 U.S.C. 601 et seq.). We analyzed the economic impacts of the annual hunting regulations on small business entities in detail, and a Small Entity Flexibility Analysis (Analysis) was issued by the Service in 1998. The Analysis documented the significant beneficial economic effect on a substantial number of small entities. The primary source of information about hunter expenditures for migratory game bird hunting is the National Hunting and Fishing Survey, which is conducted at 5-year intervals. The Analysis was based on the 1996 National Hunting and Fishing Survey and the U.S. Department of Commerce's County Business Patterns from which it was estimated that migratory bird hunters would spend between $429 million and $1,084 million at small businesses in 1998. Copies of the Analysis are available upon request from the Office of Migratory Bird Management.

Small Business Regulatory Enforcement Fairness Act

This rule is a major rule under 5 U.S.C. 804(2), the Small Business Regulatory Enforcement Fairness Act. For the reasons outlined above, this rule has an annual effect on the economy of $100 million or more. However, because this rule establishes hunting seasons, we do not plan to defer the effective date under the exemption contained in 5 U.S.C. 808(1).

Paperwork Reduction Act

We examined these regulations under the Paperwork Reduction Act of 1995. The various recordkeeping and reporting requirements imposed under regulations established in 50 CFR part 20, Subpart K, are utilized in the formulation of migratory game bird hunting regulations. Specifically, OMB has approved the information collection requirements of the Migratory Bird Harvest Information Program and assigned clearance number 1018-0015 (expires 09/30/2001). This information is used to provide a sampling frame for voluntary national surveys to improve our harvest estimates for all migratory game birds in order to better manage these populations. OMB has also approved the information collection requirements of the Sandhill Crane Harvest Questionnaire and assigned clearance number 1018-0023 (expires 09/30/2000). The information from this survey is used to estimate the magnitude and the geographical and temporal distribution of harvest, and the portion it constitutes of the total population. A Federal agency may not conduct or sponsor, and a person is not required to respond to, a collection of information unless it displays a currently valid OMB control number.

Unfunded Mandates Reform Act

We have determined and certify, in compliance with the requirements of the Unfunded Mandates Reform Act, 2 U.S.C. 1502 et seq., that this rulemaking will not impose a cost of $100 million or more in any given year on local or State government or private entities.

Civil Justice Reform—Executive Order 12988

The Department, in promulgating this proposed rule, has determined that these regulations meet the applicable standards found in Sections 3(a) and 3(b)(2) of Executive Order 12988.

Takings Implication Assessment

In accordance with Executive Order 12630, this proposed rule, authorized by the Migratory Bird Treaty Act, does not have significant takings implications and does not affect any constitutionally protected property rights. This rule will not result in the physical occupancy of property, the physical invasion of property, or the regulatory taking of any property. In fact, these rules allow hunters to exercise otherwise unavailable privileges and, therefore, reduce restrictions on the use of private and public property.

Federalism Effects

Due to the migratory nature of certain species of birds, the Federal Government has been given responsibility over these species by the Migratory Bird Treaty Act. We annually prescribe frameworks from which the States make selections and employ guidelines to establish special regulations on Federal Indian reservations and ceded lands. This process preserves the ability of the States and Tribes to determine which seasons meet their individual needs. Any State or Tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with Executive Order 13132, these regulations do not have significant federalism effects and do not have sufficient federalism implications to warrant the preparation of a Federalism Assessment.

List of Subjects in 50 CFR Part 20

Exports, Hunting, Imports, Reporting and recordkeeping requirements, Transportation, Wildlife.

The rules that eventually will be promulgated for the 2000-01 hunting season are authorized under 16 U.S.C. 703-711, 16 U.S.C. 712, and 16 U.S.C. 742 a-j.

Dated: June 14, 2000.
Donald J. Barry,
Assistant Secretary for Fish and Wildlife and Parks.

BILLING CODE 4310-55-P

[FR Doc. 00-15454 Filed 6-19-00; 8:45 am]

BILLING CODE 4310-55-C